SURFACE TRANSPORTATION BOARD

[Docket No. FD 36478]

Dakota Northern Railroad, Inc.—Lease and Operation Exemption—Rail Lines of BNSF Railway Company

Dakota Northern Railroad, Inc. (DN), a Class III railroad, has filed a verified notice of exemption pursuant to 49 CFR 1150.41 to lease from BNSF Railway Company (BNSF) and operate two rail lines totaling 59.84 miles: (1) Between the point of connection to BNSF at milepost 0.0, at or near Grafton, N.D., and the end of the line at milepost 48.38, at or near Walhalla, N.D.; and (2) between milepost 38.79, at or near Grafton, and the end of the line at milepost 50.25, at or near St. Thomas, N.D.

DN states that the proposed lease and operation is a continuation of an existing lease.¹ DN states that the parties anticipate reaching an agreement on the terms for the lease continuation in the near future and that a signed agreement is expected well before expiration of the current lease on January 31, 2021. According to DN, the proposed lease agreement will not contain any interchange commitments.

¹ See Dakota N. R.R.—Lease & Operation Exemption—Rail Lines of BNSF Ry., FD 34816 (STB served Jan. 27, 2006) (authorizing lease and operation of 69.79 miles of line in North Dakota).

Further, DN certifies that its projected annual revenue will not exceed $5 million and will not result in the creation of a Class I or II rail carrier.

The earliest this transaction may be consummated is January 29, 2021, the effective date of the exemption (30 days after the verified notice was filed).

If the verified notice contains false or misleading information, the exemption is void ab initio. Petitions to revoke the exemption under 49 U.S.C. 10502(d) may be filed at any time. The filing of a petition to revoke will not automatically stay the effectiveness of the exemption. Petitions for stay must be filed no later than January 22, 2021 (at least seven days before the exemption becomes effective).

All pleadings, referring to Docket No. FD 36478, should be filed with the Surface Transportation Board via e-filing on the Board's website. In addition, a copy of each pleading must be served on DN's representative, Thomas F. McFarland, Thomas F. McFarland, P.C., 2230 Marston Lane, Flossmoor, IL 60422-1336.

According to DN, this action is categorically excluded from environmental review under 49 CFR 1105.6(c) and from historic preservation reporting requirements under 49 CFR 1105.8(b).

Board decisions and notices are available at www.stb.gov.

Decided: January 11, 2021.
By the Board, Allison C. Davis, Director, Office of Proceedings.
Eden Besera,
Clearance Clerk.

[FR Doc. 2021-00773 Filed 1-14-21; 8:45 am]

BILLING CODE 4915-01-P